DEPARTMENT OF VETERANS AFFAIRS

Advisory Committee on Gulf War Veterans; Notice of Meeting

The Department of Veterans Affairs (VA) gives notice under Public Law 92-463 (Federal Advisory Committee Act) that the Advisory Committee on Gulf War Veterans will hold a meeting on January 14-15, 2009. The Committee will meet on January 14 in Building 100, Room BB108 at the VA Puget Sound Health Care System, 1660 South Columbian Way, Seattle, Washington.

The purpose of the Committee is to provide advice and recommendations to the Secretary of Veterans Affairs on issues that are unique to veterans who served in the Southwest Asian theater of operations during 1990-1991 period of the Gulf War.

On January 14, the Committee will meet in open session from 9 a.m. until 4 p.m. and will hear from healthcare officials from the Post-Deployment Integrated Care Initiative and the Multiple Sclerosis Centers of Excellence as well as neurologists specializing in Amyotrophic Lateral Sclerosis. A representative from the Washington State Military Department Joint Headquarters and the President of the Veterans of Modern Warfare will also speak with the Committee. Additionally, the Committee will meet with a panel of Gulf War veterans who reside in the Seattle area. Gulf War veterans living in Seattle and the surrounding area who served in the Southwest Asia theater of operations during 1990-1991 wishing to participate in the panel should contact Lelia Jackson at (202) 461-5758 or via e-mail at lelia.jackson@va.gov. The meeting will be closed to the public from 4 p.m. until 5 p.m. in order to protect patient privacy as the Committee tours the VA Puget Sound Health Care System facility. Closing the meeting is in compliance with requirements of 5 U.S.C. 552b(c)(6).

On January 15, the Committee will visit the Seattle VA Regional Office, Seattle Vet Center and one of the homeless shelters in the grant and per diem program. This session will be closed to the public to protect patient privacy. Closing the meeting is in compliance with requirements of 5 U.S.C. 552b(c)(6). The Committee will reconvene in the Carlsbad Room at the Crowne Plaza Seattle, 1113 Sixth Avenue, Seattle, Washington, from 3:30 p.m. until 5:30 p.m. in an open session to review and discuss the Committee's activities.

Public comments will be received on January 14 from 2:15 p.m. until 2:45 p.m. Individuals wishing to speak must register not later than January 8 by contacting Ms. Jackson and by submitting 1-2 page summaries of their comments for inclusion in the official record. Public comments will be limited to five minutes each. A sign-in sheet will be available. Members of the public may also submit written statements for the Committee's review to the Advisory Committee on Gulf War Veterans, Department of Veterans Affairs, 810 Vermont Avenue, NW., Washington, DC 20420.

Interested parties may also listen in by teleconferencing into the meeting. The toll-free teleconference line will be open from 9 a.m. until 4 p.m. (Pacific Standard Time) on January 14. To register for the teleconference, please contact Ms. Jackson.

Any member of the public seeking additional information should contact Laura O'Shea, Designated Federal Officer, at (202) 461-5765.

Dated: December 11, 2008.
E. Philip Riggin,
Committee Management Officer.

[FR Doc. E8-30422 Filed 12-19-08; 8:45 am]

BILLING CODE 8320-01-P